DEPARTMENT OF TRANSPORTATION

Federal Aviation Administration

14 CFR Part 95

[Docket No. 31480; Amdt. No. 571]

IFR Altitudes; Miscellaneous Amendments

AGENCY: Federal Aviation Administration (FAA), DOT.

ACTION: Final rule.

SUMMARY: This amendment adopts miscellaneous amendments to the required IFR (instrument flight rules) altitudes and changeover points for certain Federal airways, jet routes, or direct routes for which a minimum or maximum en route authorized IFR altitude is prescribed. This regulatory action is needed because of changes occurring in the National Airspace System. These changes are designed to provide for the safe and efficient use of the navigable airspace under instrument conditions in the affected areas.

DATES: Effective 0901 UTC, April 20, 2023.

FOR FURTHER INFORMATION CONTACT: Thomas J. Nichols, Flight Procedures and Airspace Group, Flight Technologies and Procedures Division, Flight Standards Service, Federal Aviation Administration. Mailing Address: FAA Mike Monroney Aeronautical Center, Flight Procedures and Airspace Group, 6500 South MacArthur Blvd., STB Annex, Bldg. 26, Room 217, Oklahoma City, OK 73099. Telephone: (405) 954-1139.

SUPPLEMENTARY INFORMATION: This amendment to part 95 of the Federal Aviation Regulations (14 CFR part 95) amends, suspends, or revokes IFR altitudes governing the operation of all aircraft in flight over a specified route or any portion of that route, as well as the changeover points (COPs) for Federal airways, jet routes, or direct routes as prescribed in part 95.

The Rule

The specified IFR altitudes, when used in conjunction with the prescribed changeover points for those routes, ensure navigation aid coverage that is adequate for safe flight operations and free of frequency interference. The reasons and circumstances that create the need for this amendment involve matters of flight safety and operational efficiency in the National Airspace System, are related to published aeronautical charts that are essential to the user, and provide for the safe and efficient use of the navigable airspace. In addition, those various reasons or circumstances require making this amendment effective before the next scheduled charting and publication date of the flight information to assure its timely availability to the user. The effective date of this amendment reflects those considerations. In view of the close and immediate relationship between these regulatory changes and safety in air commerce, I find that notice and public procedure before adopting this amendment are impracticable and contrary to the public interest and that good cause exists for making the amendment effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 95

Airspace, Navigation (air).

Issued in Washington, DC, on March 20, 2023.
Thomas J. Nichols,
Manager, Aviation Safety, Flight Standards Service, Standards Section, Flight Procedures & Airspace Group, Flight Technologies and Procedures Division.

Adoption of the Amendment

Accordingly, pursuant to the authority delegated to me by the Administrator, part 95 of the Federal Aviation Regulations (14 CFR part 95) is amended as follows effective at 0901 UTC, April 20, 2023.

PART 95—IFR ALTITUDES

1. The authority citation for part 95 continues to read as follows:

Authority: 49 U.S.C. 106(g), 40103, 40113 and 14 CFR 11.49(b)(2)

2. Part 95 is amended to read as follows:

Revisions to IFR Altitudes & Changeover Point
[Amendment 571 effective date April 20, 2023]
From | To | MEA | MAA
§ 95.3000 Low Altitude RNAV Routes
§ 95.3400 RNAV Route T400 is Amended by Adding
LLUKY, NE WP | FIITS, SD | WP 3700 | 17500
FIITS, SD WP | DURWN, MN | WP 3400 | 17500
is Amended to Delete
LLUKY, NE WP | IMUPP, SD | WP 3700 | 17500
IMUPP, SD WP | DURWN, MN | WP 3400 | 17500
§ 95.3414 RNAV Route T414 is Amended To Read in Part
STYLZ, NC WP | GENOD, NC | FIX 6200 | 17500
GENOD, NC FIX | SWENK, NC | FIX 5200 | 17500
SWENK, NC FIX | VAESE, NC | FIX 4900 | 17500
VAESE, NC FIX | BONZE, NC | WP 4500 | 17500
§ 95.3420 RNAV Route T420 is Amended To Read in Part
DALHART, TX VORTAC | EZEEE, TX | WP 5800 | 17500
EZEEE, TX WP | BRISC, TX | FIX 5000 | 17500
§ 95.3465 RNAV Route T465 is Added To Read
DES MOINES, IA VORTAC | GACEY, IA | WP 4100 | 17500
GACEY, IA WP | IOWWA, IA | WP 3100 | 17500
IOWWA, IA WP | RRAZZ, IA | WP 3100 | 17500
RRAZZ, IA WP | KBEEE, IA | WP 3100 | 17500
KBEEE, IA WP | MOORI, MN | WP 3100 | 17500
MOORI, MN WP | DEMLL, MN | WP 3100 | 17500
DEMLL, MN WP | NITZR, MN | WP 3000 | 17500

From | To | MEA
§ 95.6001 Victor Routes-U.S.
§ 95.6005 VOR Federal Airway V5 is Amended To Delete
ATHENS, GA VOR/DME | IRMOS, GA FIX | 3100
IRMOS, GA FIX | CORCE, GA FIX | 3800
CORCE, GA FIX | AWSON, GA FIX | *5400
*4600—MOCA
AWSON, GA FIX | *NELLO, GA FIX | **7000
*7000—MCA NELLO, GA FIX, E BND
**5500—MOCA
NELLO, GA FIX | *HOCHE, GA FIX | 5400
*4000—MCA HOCHE, GA FIX, SE BND
HOCHE, GA FIX | CHOO CHOO, TN VORTAC | 3000
§ 95.6006 VOR Federal Airway V6 is Amended To Delete
NILES, IL FIX | CHETT, MI FIX | *3500
*2500—MOCA
CHETT, MI FIX | GIPPER, MI VORTAC | *3000
*2200—MOCA
GIPPER, MI VORTAC | MODEM, IN FIX | *4000
*2600—MOCA
§ 95.6010 VOR Federal Airway V10 is Amended To Delete
GIPPER, MI VORTAC | LITCHFIELD, MI VOR/DME | 2800
§ 95.6011 VOR Federal Airway V11 is Amended To Read in Part
BRICKYARD, IN VORTAC | MARION, IN VOR/DME | 2900
§ 95.6012 VOR Federal Airway V12 is Amended To Read in Part
TUCUMCARI, NM VORTAC | *VEGGE, TX FIX | 6100
*7000—MRA
VEGGE, TX FIX | PANHANDLE, TX VORTAC | 6100
§ 95.6016 VOR Federal Airway V16 is Amended To Read in Part
BUCKY, TN FIX | VOLUNTEER, TN | VORTAC
E BND *3500
W BND *5000
*3000—MOCA
§ 95.6017 VOR Federal Airway V17 is Amended To Read in Part
MILET, TX FIX | SOMER, TX FIX | *4000
*2600—MOCA
SOMER, TX FIX | SAN ANTONIO, TX VORTAC | 3000
§ 95.6020 VOR Federal Airway V20 is Amended To Delete
MONTGOMERY, AL VORTAC | TUSKEGEE, AL VOR/DME | 2000
TUSKEGEE, AL VOR/DME | MARVO, AL WP | 2100
MARVO, AL WP | COLUMBUS, GA VORTAC | *2600
*2000—MOCA
COLUMBUS, GA VORTAC | SINCA, GA FIX | *4500
*2500—MOCA
SINCA, GA FIX | ATHENS, GA VOR/DME | *3000
*2200—MOCA
RICHMOND, VA VORTAC | *TAPPA, VA FIX | 2000
*5000—MCA | TAPPA, VA FIX, NE BND
TAPPA, VA FIX | *COLIN, VA FIX | **5000
*10000—MCA COLIN, VA FIX, N BND
**1500—MOCA
**2000—GNSS MEA
COLIN, VA FIX | NOTTINGHAM, MD VORTAC | *10000
*1800—MOCA
*2000—GNSS MEA
Is Amended To Read in Part
ELECTRIC CITY, SC VORTAC | *CLEVA, SC FIX | 3200
*7000—MRA
*6200—MCA CLEVA, SC FIX, NE BND
CLEVA, SC FIX SW BND 5200 NE BND 6200 | *TUXDO, SC FIX
*7000—MRA
§ 95.6030 VOR Federal Airway V30 is Amended To Delete
PULLMAN, MI VOR/DME | LITCHFIELD, MI VOR/DME | 2800
§ 95.6035 VOR Federal Airway V35 is Amended To Read in Part
ELECTRIC CITY, SC VORTAC | CLEVA, SC FIX | 3200
*7000—MRA
*6200—MCA CLEVA, SC FIX, NE BND
CLEVA, SC FIX SW BND 5200 NE BND 6200 | *TUXDO, SC FIX
*7000—MRA
§ 95.6051 VOR Federal Airway V51 is Amended To Read in Part
SHELBYVILLE, IN VOR/DME | BOILER, IN VORTAC | *5000
*2900—MOCA
§ 95.6053 VOR Federal Airway V53 is Amended To Read in Part
COLUMBIA, SC VORTAC | *WILLS, SC FIX | UNUSABLE
*3500—MRA
§ 95.6080 VOR Federal Airway V80 is Amended To Read in Part
TYNDA, SD FIX | DOLTS, SD FIX | *4000
§ 95.6096 VOR Federal Airway V96 is Amended To Delete
BRICKYARD, IN VORTAC | KOKOMO, IN VORTAC | 2700
KOKOMO, IN VORTAC | FORT WAYNE, IN VORTAC | 2600
FORT WAYNE, IN VORTAC | *TWERP, OH FIX | **5000
*5000—MRA
**2400—MOCA
§ 95.6097 VOR Federal Airway V97 is Amended To Read in Part
SHELBYVILLE, IN VOR/DME | BOILER, IN VORTAC | *5000
*2900—MOCA
§ 95.6100 VOR Federal Airway V100 is Amended To Delete
KEELER, MI VOR/DME | LITCHFIELD, MI VOR/DME | 2600
§ 95.6123 VOR Federal Airway V123 is Amended To Read in Part
WOODSTOWN, NJ VORTAC | ROBBINSVILLE, NJ VORTAC | *3000
*2100—MOCA
§ 95.6148 VOR Federal Airway V148 is Amended To Read in Part
TYNDA, SD FIX | DOLTS, SD FIX | *4000
*3100—MOCA
§ 95.6148 VOR Federal Airway V155 is Amended To Delete
COLUMBUS, GA VORTAC | SINCA, GA FIX | *4500
*2500—MOCA
§ 95.6156 VOR Federal Airway V156 is Amended To Delete
GIPPER, MI VORTAC | KALAMAZOO, MI DME | 3000
§ 95.6157 VOR Federal Airway V157 is Amended To Read in Part
WOODSTOWN, NJ VORTAC | ROBBINSVILLE, NJ VORTAC | *3000
*2100—MOCA
§ 95.6165 VOR Federal Airway V165 is Amended To Read in Part
MARRI, CA FIX | *MUSTANG, NV VORTAC | 15000
*15000—MCA MUSTANG, NV VORTAC, S BND
MUSTANG, NV VORTAC | PYRAM, NV FIX | *11000
*11000—GNSS MEA
§ 95.6181 VOR Federal Airway V181 is Amended To Delete
NORFOLK, NE VOR/DME | YANKTON, SD VOR/DME | 3700
YANKTON, SD VOR/DME | SIOUX FALLS, SD VORTAC | 3400
§ 95.6190 VOR Federal Airway V190 is Amended To Read in Part
GRINE, AZ FIX | PEAKS, AZ FIX | *10000
*7200—MOCA
§ 95.6195 VOR Federal Airway V195 is Amended To Read in Part
RED BLUFF, CA VORTAC | *BURRS, CA FIX | 3000
*5400—MCA BURRS, CA FIX, W BND
BURRS, CA FIX | *TOMAD, CA FIX | 6200
*7300—MCA TOMAD, CA FIX, W BND
TOMAD, CA FIX | *YAGER, CA FIX | **8300
*6500—MCA YAGER, CA FIX, E BND
**8300—MOCA
YAGER, CA FIX | *FORTUNA, CA VORTAC | 6100
*3900—MCA FORTUNA, CA VORTAC, E BND
§ 95.6213 VOR Federal Airway V213 is Amended To Read in Part
SMYRNA, DE VORTAC | ROBBINSVILLE, NJ VORTAC | *3000
*2100—MOCA
§ 95.6214 VOR Federal Airway V214 is Amended To Delete
KOKOMO, IN VORTAC | MARION, IN VOR/DME | 2600
MARION, IN VOR/DME | MUNCIE, IN VOR/DME | 2800
§ 95.6222 VOR Federal Airway V222 is Amended To Read in Part
LAGRANGE, GA VORTAC | *TIROE, GA FIX | 3100
*4000—MRA
§ 95.6233 VOR Federal Airway V233 is Amended To Delete
GOSHEN, IN VORTAC | LITCHFIELD, MI VOR/DME | 3000
§ 95.6235 VOR Federal Airway V235 is Amended To Read in Part
BORGG, WY FIX | *OILLY, WY FIX | 11500
*11200—MCA OILLY, WY FIX, SW BND
§ 95.6241 VOR Federal Airway V241 is Amended To Delete
EUFAULA, AL VORTAC | COLUMBUS, GA VORTAC | 2400
COLUMBUS, GA VORTAC | *TIROE, GA FIX | 3000
*4000—MRA
Is Amended by Adding
EUFAULA, AL VORTAC | RSVLT, GA FIX | 2500
§ 95.6250 VOR Federal Airway V250 is Amended To Delete
O'NEILL, NE VORTAC | YANKTON, SD VOR/DME | 3700
§ 95.6267 VOR Federal Airway V267 is Amended To Read in Part
CRAIG, FL VORTAC | BAXLY, GA FIX | *6000
*2600—GNSS MEA
BAXLY, GA FIX | DUBLIN, GA VORTAC | *3000
*2000—GNSS MEA
§ 95.6285 VOR Federal Airway V285 is Amended To Delete
BRICKYARD, IN VORTAC | KOKOMO, IN VORTAC | 2700
KOKOMO, IN VORTAC | GOSHEN, IN VORTAC | 2600
GOSHEN, IN VORTAC | KALAMAZOO, MI DME | 2600
KALAMAZOO, MI DME | VICTORY, MI VOR/DME | 3000
§ 95.6305 VOR Federal Airway V305 is Amended To Delete
BRICKYARD, IN VORTAC | WELDO, IN FIX | 2900
WELDO, IN FIX | KOKOMO, IN VORTAC | 2700
§ 95.6321 VOR Federal Airway V321 is Amended To Delete
PREST, GA FIX | *COLUMBUS, GA VORTAC | **5000
*5000—MCA COLUMBUS, GA VORTAC, SE BND
**3300—MOCA
COLUMBUS, GA VORTAC | LAGRANGE, GA VORTAC | 2500
Is Amended by Adding
PREST, GA FIX | *RSVLT, GA FIX | **5000
*5000—MCA RSVLT, GA FIX, SE BND
**3300—MOCA
RSVLT, GA FIX | LAGRANGE, GA VORTAC | 2700
§ 95.6402 VOR Federal Airway V402 is Amended To Read in Part
MOSER, TX FIX | *SIDER, TX FIX | **6000
*7000—MRA
**5500—MOCA
SIDER, TX FIX | PANHANDLE, TX VORTAC | *6000
*5500—MOCA
§ 95.6456 ALASKA VOR Federal Airway V456 is Amended To Read in Part
TANIE, AK FIX | KING SALMON, AK VORTAC | *5000
*1600—MOCA
§ 95.6531 Alaska VOR Federal Airway V531 is Amended To Delete
KOTZEBUE, AK VOR/DME SE BND *2500 NW BND *8000 | BERJO, AK WP
*2500—MOCA
BERJO, AK WP | POINT HOPE, AK NDB | *8000
*4000—MOCA
§ 95.6621 Alaska VOR Federal Airway V621 is Amended To Delete
BARROW, AK VOR/DME | ATQASUK, AK NDB | 2000

From | To | MEA | MAA
§ 95.7001 Jet Routes
§ 95.7037 Jet Route J37 is Amended To Delete
HARVEY, LA VORTAC | SEMMES, AL VORTAC | 18000 | 45000
SEMMES, AL VORTAC | MONTGOMERY, AL VORTAC | 18000 | 45000
LYNCHBURG, VA VOR/DME | GORDONSVILLE, VA VORTAC | 18000 | 45000
GORDONSVILLE, VA VORTAC | BROOKE, VA VORTAC | 18000 | 45000
BROOKE, VA VORTAC | NALES, DE WP | 18000 | 31000
NALES, DE WP | COYLE, NJ VORTAC | 18000 | 45000
KENNEDY, NY VOR/DME | KINGSTON, NY VOR/DME | 18000 | 45000
KINGSTON, NY VOR/DME | ALBANY, NY VORTAC | 18000 | 45000
§ 95.7055 Jet Route J55 is Amended To Delete
TUBAS, NC FIX | RALEIGH/DURHAM, NC VORTAC | 18000 | 45000
RALEIGH/DURHAM, NC VORTAC | HOPEWELL, VA VORTAC | 18000 | 45000
HOPEWELL, VA VORTAC | HUBBS, VA WP | 18000 | 20000
SEA ISLE, NJ VORTAC | HAMPTON, NY VORTAC | 18000 | 45000
HAMPTON, NY VORTAC | PROVIDENCE, RI VOR/DME | 18000 | 45000
PROVIDENCE, RI VOR/DME | BOSTON, MA VOR/DME | 18000 | 45000
BOSTON, MA VOR/DME | KENNEBUNK, ME VOR/DME | 18000 | 45000
KENNEBUNK, ME VOR/DME | PRESQUE ISLE, ME VOR/DME | 19000 | 45000
§ 95.7079 Jet Route J79 is Amended To Delete
CHARLESTON, SC VORTAC | TAR RIVER, NC VORTAC | 18000 | 45000
TAR RIVER, NC VORTAC | FRANKLIN, VA VORTAC | 18000 | 45000
FRANKLIN, VA VORTAC | SALISBURY, MD VORTAC | 18000 | 45000
SALISBURY, MD VORTAC | KENNEDY, NY VOR/DME | 18000 | 45000
KENNEDY, NY VOR/DME | CUJKE, MA WP | 18000 | 45000
CUJKE, MA WP | MARCONI, MA VOR/DME |  | UNUSABLE
MARCONI, MA VOR/DME | BANGOR, ME VORTAC | 18000 | 45000
§ 95.7121 Jet Route J121 is Amended To Delete
CHARLESTON, SC VORTAC | KINSTON, NC VORTAC | 18000 | 45000
KINSTON, NC VORTAC | NORFOLK, VA VORTAC | 18000 | 45000
NORFOLK, VA VORTAC | SNOW HILL, MD VORTAC | 18000 | 45000
SNOW HILL, MD VORTAC | SEA ISLE, NJ VORTAC | 18000 | 45000
SEA ISLE, NJ VORTAC | BRIGS, NJ FIX | 18000 | 45000
§ 95.7174 Jet Route J174 is Amended To Delete
CHARLESTON, SC VORTAC | WILMINGTON, NC VORTAC | 18000 | 45000
WILMINGTON, NC VORTAC | DIXON, NC NDB | 18000 | 45000
DIXON, NC NDB | NORFOLK, VA VORTAC | 18000 | 45000
NORFOLK, VA VORTAC | SNOW HILL, MD VORTAC | 18000 | 45000
SNOW HILL, MD VORTAC | YAZUU, NJ WP | 18000 | 45000
YAZUU, NJ WP | HAMPTON, NY VORTAC |  | UNUSABLE
HAMPTON, NY VORTAC | MARCONI, MA VOR/DME |  | UNUSABLE
MARCONI, MA VOR/DME | HERIN, MA WP |  | UNUSABLE
§ 95.7191 Jet Route J191 is Amended To Delete
HOPEWELL, VA VORTAC | WILMINGTON, NC VORTAC | 18000 | 45000
§ 95.7055 Jet Route J209 is Amended To Delete
RALEIGH/DURHAM, NC VORTAC | TAR RIVER, NC VORTAC | 18000 | 45000
TAR RIVER, NC VORTAC | NORFOLK, VA VORTAC | 18000 | 45000
NORFOLK, VA VORTAC | SALISBURY, MD VORTAC | 18000 | 45000
SALISBURY, MD VORTAC | COYLE, NJ VORTAC | 18000 | 45000
COYLE, NJ VORTAC | WHITE, NJ FIX | 18000 | 45000

Airway segment changeover points: From | Airway segment changeover points: To | Airway segment changeover points: Distance | Airway segment changeover points: From
§ 95.8003 VOR Federal Airway Changeover Point
V195 is Amended To Add Changeover Point
RED BLUFF, CA VORTAC | FORTUNA, CA VORTAC | 58 | RED BLUFF
V20 is Amended To Delete Changeover Point
MONTGOMERY, AL VORTAC | TUSKEGEE, AL VOR/DME | 30 | MONTGOMERY
Alaska V531 is Amended To Delete Changeover Point
KOTZEBUE, AK VOR/DME | POINT HOPE, AK NDB | 116 | KOTZEBUE
§ 95.8005 Jet Routes Changeover Points
J37 is Amended To Delete Changeover Point
KENNEDY, NY VOR/DME | KINGSTON, NY VOR/DME | 37 | KENNEDY
J55 is Amended To Delete Changeover Point
BOSTON, MA VOR/DME | KENNEBUNK, ME VOR/DME | 38 | BOSTON
J79 is Amended To Delete Changeover Point
FRANKLIN, VA VORTAC | SALISBURY, MD VORTAC | 20 | FRANKLIN
J121 is Amended To Delete Changeover Point
CHARLESTON, SC VORTAC | KINSTON, NC VORTAC | 128 | CHARLESTON
SNOW HILL, MD VORTAC | SEA ISLE, NJ VORTAC | 20 | SNOW HILL
J174 is Amended To Delete Changeover Point
SNOW HILL, MD VORTAC | HAMPTON, NY VORTAC | 106 | SNOW HILL
J209 is Amended To Delete Changeover Point
NORFOLK, VA VORTAC | SALISBURY, MD VORTAC | 42 | NORFOLK

[FR Doc. 2023-05957 Filed 3-23-23; 8:45 am]

BILLING CODE 4910-13-P